ENVIRONMENTAL PROTECTION AGENCY

40 CFR Part 52

[EPA-R09-OAR-2011-0046; FRL-9318-1]

Approval and Promulgation of Implementation Plans; State of California; Interstate Transport of Pollution; Significant Contribution to Nonattainment and Interference With Maintenance Requirements

Correction

In rule document 2011-14480 appearing on pages 34872-34876, in the issue of Wednesday, June 15, 2011, make the following correction:

On page number 34872, in the second column, in the Environmental Protection Agency document, the subject is corrected to appear as above.

[FR Doc. C1-2011-14480 Filed 7-19-11; 8:45 am]

BILLING CODE 1505-01-D